DEPARTMENT OF ENERGY

Federal Energy Regulatory Commission

[Project No. 13643-000]

Basin Farm Renewable, LLC; Notice of Preliminary Permit Application Accepted for Filing and Soliciting Comments, Motions To Intervene, and Competing Applications

January 6, 2010.

On December 10, 2009, the Basin Farm Renewable, LLC filed an application, pursuant to section 4(f) of the Federal Power Act, proposing to study the feasibility of the Basin Farm Renewable Energy Project Project, to be located on Saxtons River, in Westminster Township, Windham County, Vermont.

The proposed project would consist of: (1) A proposed stream bank intake on the upper pool of the twin falls; (2) a proposed five-foot-diameter, 150-foot-long penstock; (3) a proposed 25-foot x 25-foot powerhouse containing one generating unit with a total generating capacity of 250 kW; (4) a proposed 3,000-foot-long, 12.47 kV transmission line; and (4) a tailrace. The project would have an estimated average annual generation of 764.0 megawatts-hours.

Applicant Contact: Mr. James World, 55 Main Street, Lancaster, NH 03584, phone (802) 463-3230.

FERC Contact: Michael Spencer, (202) 502-6093.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp.

More information about this project can be viewed or printed on the “eLibrary” link of Commission's Web site at http://www.ferc.gov/docs-filing/elibrary.asp. Enter the docket number (P-13643) in the docket number field to access the document. For assistance, call toll-free 1-866-208-3372.

Kimberly D. Bose,
Secretary.

[FR Doc. 2010-529 Filed 1-13-10; 8:45 am]

BILLING CODE 6717-01-P